DEPARTMENT OF HEALTH AND HUMAN SERVICES

Centers for Disease Control and Prevention

[60Day-03-121]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Cross-sectional Outcome Survey for Evaluation of CDC Youth Media Campaign—New—National Center for Chronic Disease Prevention and Health Promotion (NCCDPHP), Centers for Disease Control and Prevention (CDC).

In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with Federal partners, coordinated an effort to plan, implement, and evaluate a campaign designed to clearly communicate messages that will help youth develop habits that foster good health over a lifetime. The Campaign is based on principles that have been shown to enhance success, including: Designing messages based on research; testing messages with the intended audiences; involving young people in all aspects of Campaign planning and implementation; enlisting the involvement and support of parents and other influencers; refining the messages based on research; and measuring the effect of the campaign on the target audiences.

To measure the effect of the campaign on the target audiences, CDC is using a longitudinal design with a telephone survey of tween and parent dyads (Children's Youth Media Survey and Parents' Youth Media Survey, OMB: 0920-0587) that assesses aspects of the knowledge, attitudes, beliefs, and levels of involvement in positive and physical activities. The baseline survey was conducted prior to the launch of the campaign from April through 2002. Three thousand parent/child dyads (from a nationally representative sample) and 3000 parent/child dyads from the six “high dose” communities were interviewed, for a total of 12,000 respondents. To measure the first year's effects of the campaign, a follow up survey was administered to the baseline respondents April to June 2003. The same respondents will be re-surveyed in April to June 2004.

In addition to the follow-up survey, a new national cross-sectional sample will be included in the outcome evaluation for spring 2004. The cross-sectional sample will serve as a bridge to future years of the outcome survey design, which transfers from a longitudinal to a cross-sectional design. Use of a concurrent cross-sectional survey will address important design problems related to re-contact respondent bias that can affect the results of a longitudinal survey. Thus, a telephone survey will be administered in spring 2004 to 2,400 parent/youth dyads in the new national cross-sectional sample using RDD methodology. This survey will occur concurrently with the Year 2 Follow-up Survey, and the survey instrument will be the same as the Year 2 Follow-up Survey. In years subsequent to 2004, YMC will continue to conduct cross-sectional surveys of approximately 2400 parent/child dyads. There is no cost to respondents.

Respondents | Number of respondents | Number of responses/ respondent | Average burden/ response | Total burden
Tweens (9 to 13 year olds) | 2400 2400 2400 | 1 (2004) 1 (2005) 1 (2006) | 15/60 | 600 600 600
Parents | 2400 | 1 (2004) | 15/60 | 600
| 2400 | 1 (2005) |  | 600
| 2400 | 1 (2006) |  | 600
Total |  |  |  | 3600

Dated: September 19, 2003.
Thomas A. Bartenfeld,
Acting Associate Director for Policy, Planning and Evaluation, Centers for Disease Control and Prevention.

[FR Doc. 03-24276 Filed 9-24-03; 8:45 am]

BILLING CODE 4163-18-P